DEPARTMENT OF VETERANS AFFAIRS

Privacy Act of 1974; System of Records

AGENCY: Department of Veterans Affairs (VA), Veterans Benefits Administration (VBA)

ACTION: Notice of a Modified System of Records

SUMMARY: Pursuant to Privacy Act of 1974, notice is hereby given that VA proposes to modify an existing system of records, “Compensation, Pension, Education, and Vocational Rehabilitation and Employment (VR&E) Records—VA” (58VA21/22/28).

DATES: Comments on this modified system of records must be received no later than 30 days after date of publication in the Federal Register. If no public comment is received during the period allowed for comment or unless otherwise published in the Federal Register by VA, this modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Compensation, Pension, Education, and Vocational Rehabilitation and Employment Records—VA (58VA21/22/28).” Comments received will be available at regulations.gov for public viewing, inspection, or copies.

FOR FURTHER INFORMATION CONTACT: Renee Raidt, Program Analyst, Office of Business Integration, Department of Veterans Affairs, 810 Vermont Avenue NW, Washington, DC 20420, Renee.Raidt@VA.gov, or at telephone number 425-553-8499. (Note: This is not a toll-free number.)

SUPPLEMENTARY INFORMATION: VA is updating this system of records by modifying the System Name and Routine Uses of Records in the System. The System Name is being updated to Veteran Readiness and Employment (formerly known as Vocational Rehabilitation and Employment). Routine uses 75-81 and 83 were removed regarding VA's Insurance business line. Those routine uses are included in the “Veterans and Uniformed Services Personnel Programs of U.S. Government Life Insurance—VA” (36VA29) Privacy Act System of Records. Categories of individuals covered by the system was updated to remove items 22-24, which is also addressed in the same system of records (36VA29). The Notification Procedure Section was updated to state “ “Individuals who wish to be notified if a record in this system of records pertains to them should submit the request following the procedures described in “Record Access Procedures,” above.” Former routine uses 86-93 were removed since they are included in the “Beneficiary Fiduciary Field System (BFFS) VA (37VA27)” Privacy Act System of Records.

VA is adding new Routine Use 70 to authorize VA to disclose information from this system of records to the Department of Health and Human Services for the purpose of tracking Veteran employment for research purposes in accordance with Public Law 116-315, Section 4301.

The narrative statement and an advance copy of the proposed changes have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Eddie Pool, Deputy Chief Information Officer, Connectivity and Collaboration Services, Performing the Delegable Duties of the Assistant Secretary for Information and Technology and Chief Information Officer, approved this document on July 11, 2025, for publication.

Dated: September 10, 2025
Saurav Devkota,
Government Information Specialist, VA Privacy Service, Office of Compliance, Risk and Remediation, Office of Information and Technology, Department of Veterans Affairs.

SYSTEM NAME AND NUMBER:

Compensation, Pension, Education, and Veteran Readiness and Employment Records—VA (58VA21/22/28).

SECURITY CLASSIFICATION:

This is an unclassified system.

SYSTEM LOCATION:

Records are maintained at VA regional offices; VA medical centers; the VA Records Management Center at St. Louis, Missouri; the Data Processing Center at Hines, Illinois; the Corporate Franchise Data Center in Austin, Texas; the Information Technology Center at Philadelphia, Pennsylvania; Terremark Worldwide, Inc.; Federal Hosting Facilities in Culpepper, Virginia and Miami, Florida; and in the VA Enterprise Cloud AWS GovCloud regions in Oregon and Ohio. Active educational assistance records are generally maintained at the regional processing office having jurisdiction over the educational institution, training establishment, or other entity where the claimant pursues or intends to pursue training.

The automated individual employee productivity records are temporarily maintained at the VA data processing facility serving the office in which the employee is located. Records provided to the Department of Housing and Urban Development (HUD) for inclusion on its Credit Alert Interactive Voice Response System (CAIVRS) are located at a data processing center under contract to HUD at Lanham, Maryland. Address locations of VA facilities are listed at: https://www.va.gov/landing2_locations.htm.

SYSTEM MANAGER(S):

Executive Director, Compensation Service (21C), 810 Vermont Avenue NW, VA Central Office, Washington, DC 20420.

Executive Director, Pension and Fiduciary Service (21PF), 810 Vermont Avenue NW, VA Central Office, Washington, DC 20420.

Executive Director, Education Service (22), 810 Vermont Avenue NW, VA Central Office, Washington, DC 20420.

Executive Director, VR&E Service (28), 810 Vermont Avenue NW, VA Central Office, Washington, DC 20420.

AUTHORITY FOR MAINTENANCE OF THE SYSTEM:

10 U.S.C. Ch. 106a, 510,1606 and 1607; 38 U.S.C. 501(a); 38 U.S.C. Ch. 3,11,13,15,18, 23, 30, 31, 32, 33, 34, 35, 36, 37, 39, 51, 53, 55 and 77; and 5 U.S.C. 5514.

PURPOSE(S) OF THE SYSTEM:

VA gathers or creates these records in order to enable it to administer statutory benefits programs to Veterans, Service members, and Reservists; and their spouses, surviving spouses, and dependents, who file claims for a wide variety of Federal Veteran's benefits administered by VA. See the statutory provisions cited in “Authority for maintenance of the system.”

CATEGORIES OF INDIVIDUALS COVERED BY THE SYSTEM:

The following categories of individuals are covered by this system.

1. Veterans who have applied for compensation for service-connected disability under 38 U.S.C. Ch. 11.

2. Veterans who have applied for nonservice-connected disability under 38 U.S.C. Ch. 15.

3. Veterans entitled to burial benefits under 38 U.S.C. Ch. 23.

4. Surviving spouses and children who have claimed pension based on nonservice connected death of a Veteran under 38 U.S.C. Ch. 15.

5. Surviving spouses and children who have claimed death compensation based on service-connected death of a Veteran under 38 U.S.C. Ch. 11.

6. Surviving spouses and children who have claimed dependency and indemnity compensation for service-connected death of a Veteran under 38 U.S.C. Ch. 13.

7. Parents who have applied for death compensation based on service-connected death of a Veteran under 38 U.S.C. Ch. 11.

8. Parents who have applied for dependency and indemnity compensation for service connected death of a Veteran under 38 U.S.C. Ch. 13.

9. Individuals who applied for educational assistance benefits administered by VA under title 38 U.S.C.

10. Individuals who applied for educational assistance benefits maintained by the Department of Defense (DoD) under title 10 U.S.C. that are administered by VA.

11. Veterans who apply for training and employers who apply for approval of their programs under the provisions of the Emergency Veterans' Job Training Act of 1983, Public Law 98-77.

12. Any VA employee who generates or finalizes adjudicative actions using the Benefits Delivery Network (BDN), the Veterans Service Network (VETSNET), or Veterans Benefit Management System (VBMS) computer processing systems.

13. Veterans who apply for training and employers who apply for approval of their programs under the provisions of the Service members Occupational Conversion and Training Act of 1992, Public Law 102-484.

14. Representatives of individuals covered by the system.

15. Fee personnel who may be paid by the VA or by someone other than the VA (e.g., appraisers, compliance inspectors, management brokers, loan closing, and fee attorneys who are not VA employees but are paid for actual case work performed).

16. Program participants (e.g., property management brokers and agents, real estate sales brokers and agents, participating lenders and their employees, title companies whose fees are paid by someone other than VA, and manufactured home dealers, manufacturers, and manufactured home park or subdivision owners).

17. Disabled Veterans who have applied for and received specially adapted housing assistance under 38 U.S.C. Ch. 21.

18. Veterans, their spouses or unmarried surviving spouses who have applied for and received VA housing credit assistance under title 38 U.S.C. Ch. 37.

19. Person(s) applying to purchase VA owned properties (vendee loans).

20. Transferee owners of properties encumbered by a VA-guaranteed, insured, direct or vendee loan (e.g., individuals who have assumed a VA-guaranteed loan and those who have purchased property directly from VA).

21. Individuals other than those previously identified who may have applied for loan guaranty benefits.

CATEGORIES OF RECORDS IN THE SYSTEM:

Records include identifying information (e.g., name, address, and social security number); military service and active duty separation information (e.g., name, service number, date of birth, rank, sex, total amount of active service, branch of service, character of service, pay grade, assigned separation reason, service period, whether Veteran was discharged with a disability, reenlisted, received a Purple Heart or other military decoration); payment information (e.g., Veteran payee name, address, dollar amount of readjustment service pay, amount of disability or pension payments, number of nonpay days, any amount of indebtedness (accounts receivable) arising from title 38 U.S.C. benefits and which are owed to the VA); medical information (e.g., medical and dental treatment in the Armed Forces including type of service-connected disability, medical facilities, or medical or dental treatment by VA health care personnel or received from private hospitals and health care personnel relating to a claim for VA disability benefits or medical or dental treatment); personal information (e.g., marital status, name and address of dependents, internet protocol addresses, occupation, amount of education of a Veteran or a dependent, dependent's relationship to Veteran); education benefit information (e.g., information arising from utilization of training benefits such as a Veteran trainee's induction, reentrance or dismissal from a program or progress and attendance in an education or training program); applications for compensation, pension, education, and Veteran readiness benefits and training which may contain identifying information, military service, and active duty separation information, payment information, medical and dental information; personal and education benefit information relating to a Veteran or beneficiary's incarceration in a penal institution (e.g., name of incarcerated Veteran or beneficiary, claims file number, name, and address of penal institution, date of commitment, type of offense, scheduled release date, Veteran's date of birth, beneficiary relationship to Veteran and whether Veteran or beneficiary is in a work release or half-way house program, on parole or has been released from incarceration); case notes from the e-VA application created from email and text message correspondence through the application; degree audits and copies of grades for Veterans and dependents enrolled in school; training records for Veterans and dependents participating in training programs. The Filipino Loyalty file (the File) consists of correspondence, memoranda, reports, affidavits, depositions, press clippings, rosters, photographs, and other papers accumulated by post-WWII U.S. Army investigative and intelligence units. The File relates to anti-Japanese resistance activities in the Philippines, Filipino collaboration with the Japanese, wartime guerrilla activities, and instances of real or suspected Communist activities.

The VA employee's BDN, VETSNET or VBMS identification numbers, the number and kind of actions generated and/or finalized by each such employee, the compilation of cases returned for each employee.

Records (or information contained in records) may also include: applications for certificates of eligibility (these applications generally contain information from a Veteran's military service records except for character of discharge); applications for Federal Housing Administration Veterans' low-down payment loans (these applications generally contain information from a Veteran's military service records including whether or not a Veteran is in the service); applications for a guaranteed or direct loan, applications for release of liability, applications for substitutions of VA entitlement and applications for specially adapted housing (these applications generally contain information relating to employment, income, credit, personal data, e.g., social security number, marital status, number and identity of dependents); assets and liabilities at financial institutions; profitability data concerning business of self-employed individuals; information relating to an individual Veteran's loan account and payment history on a VA-guaranteed, direct, or vendee loan on an acquired property; medical information when specially adapted housing is sought; and information regarding whether a Veteran owes a debt to the United States) and may be accompanied by other supporting documents which contain the above information; applications for the purchase of a VA acquired property (e.g., vendee loans—these applications generally contain personal and business information on a prospective purchaser such as social security number, credit, income, employment history, payment history, business references, personal information and other financial obligations and may be accompanied by other supporting documents which contain the above information); loan instruments including deeds, notes, installment sales contracts, and mortgages; property management information (e.g., condition and value of property, inspection reports, notices of value, correspondence, and other information regarding the condition of the property (occupied, vandalized)), and a legal description of the property; information regarding VA loan servicing activities regarding default, repossession and foreclosure procedures, assumption of loans, payment of taxes and insurance, filing of judgments (liens) with state or local authorities and other related matters in connection with active and/or foreclosed loans; information regarding the status of a loan (e.g., approved, pending or rejected by the VA); Applications by individuals to become VA-approved fee basis appraisers, compliance inspector, fee attorneys, or management brokers. These applications include information concerning applicant's name, address, business phone numbers, social security numbers or taxpayer identification number, and professional qualifications; applications by non-supervised lenders for approval to close guaranteed loans without the prior approval of VA (automatically); applications by lenders supervised by Federal or state agencies for designation as supervised automatic lenders in order that they may close loans without the prior approval (automatically) of VA; applications for automatic approval or designation contain information concerning the corporate structure of the lender, professional qualifications of the lender's officers or employees, financial data such as profit and loss statements and balance sheets to insure the firm's financial integrity; identifying information such as names, business names (if applicable), addresses, phone numbers, and professional resumes of corporate officials or employees; corporate structure information on prior approval lenders, participating real estate sales brokers or agents, developers, builders, investors, closing attorneys or other program participants as necessary to carry out the functions of the Loan Guaranty Program; records of performance concerning appraisers, compliance inspectors, management brokers, or fee attorneys on both firms and individual employees; records of performance including disciplinary proceedings, concerning program participants (e.g., lenders, investors, real estate brokers, builders, fee appraisers, compliance inspectors and developers both as to the firm and to individual employees maintained on an as-needed basis to carry out the functions of the Loan Guaranty program); National Control Lists which identify suspended real estate brokers and agents, lenders and their employees, investors, manufactured home dealers and manufacturers, and builders or developers; and a master record of the National Control List (e.g., Master Control List), which includes information regarding parties previously suspended but currently reinstated to participation in the Loan Guaranty program in addition to all parties currently suspended.

RECORD SOURCE CATEGORIES:

Veterans, Service members, and Reservists; spouses, surviving spouses, dependents, and other beneficiaries of the Veteran; accredited service organizations and other VA-approved representatives of the Veteran; VA-supervised fiduciaries (e.g., VA Federal fiduciaries); military service departments; VA medical facilities and physicians; private medical facilities and physicians; education and rehabilitation training establishments; state and local agencies; other Federal agencies including the DoD, Social Security Administration (SSA), and U.S. Department of the Treasury; state, local, and county courts and clerks; Federal, state, and local penal institutions and correctional facilities; other third parties and other VA records; Office of Servicemembers' Group Life Insurance; lending institutions holding a Veteran's or uniformed services member's mortgage; VA Loan Guaranty records; contractors remodeling or enlarging or adding construction to existing homes; relatives and other interested persons; Westlaw and InfoUSA); brokers and builder/sellers; credit and financial reporting agencies; an applicant's credit sources; depository institutions and employers; independent auditors and accountants; hazard insurance companies; taxing authorities; title companies; fee personnel; business and professional organizations; the general public; and other parties of interest involving VA-guaranteed, insured, vendee or direct loans or specially adapted housing.

ROUTINE USES OF RECORDS MAINTAINED IN THE SYSTEM, INCLUDING CATEGORIES OF USERS AND PURPOSES OF SUCH USES:

Note: To the extent that records contained in this system include information protected by 38 U.S.C. 7332, that information cannot be disclosed under a routine use unless there is also specific disclosure authority in that provision.

1. Congress: To a Member of Congress or staff acting upon the Member's behalf when the Member or staff requests the information on behalf of, and at the request of, the individual who is the subject of the record.

2. Data Breach Response and Remediation, for VA: To appropriate agencies, entities, and persons when (a) VA suspects or has confirmed that there has been a breach of the system of records; (b) VA has determined that as a result of the suspected or confirmed breach there is a risk of harm to individuals, VA (including its information systems, programs, and operations), the Federal Government, or national security; and (c) the disclosure made to such agencies, entities, and persons is reasonably necessary to assist in connection with VA's efforts to respond to the suspected or confirmed breach or to prevent, minimize, or remedy such harm.

3. Data Breach Response and Remediation, for another Federal Agency: To another Federal agency or Federal entity, when VA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

4. Law Enforcement: To a Federal, state, local, territorial, tribal, or foreign law enforcement authority or other appropriate entity charged with the responsibility of investigating or prosecuting a violation or potential violation of law, whether civil, criminal, or regulatory in nature, or charged with enforcing or implementing such law, provided that the disclosure is limited to information that, either alone or in conjunction with other information, indicates such a violation or potential violation. A disclosure of information about Veterans or their dependents from VA claims files under this routine use must also comply with the requirements of 38 U.S.C. 5701(f).

5. Department of Justice (DOJ), for Litigation, Administrative Proceeding: To the DOJ, or in a proceeding before a court, adjudicative body, or other administrative body before which VA is authorized to appear, when any of the following is a party to such proceedings or has an interest in such proceedings, and VA determines that use of such records is relevant and necessary to the proceedings:

(a) VA or any component thereof;

(b) Any VA employee in his or her official capacity;

(c) Any VA employee in his or her individual capacity where DOJ has agreed to represent the employee; or

(d) The United States, where VA determines that litigation is likely to affect the agency or any of its components.

6. Contractors: To contractors, grantees, experts, consultants, students, and others performing or working on a contract, service, grant, cooperative agreement, or other assignment for VA, when reasonably necessary to accomplish an agency function related to the records.

7. Office of Personnel Management (OPM): To OPM in connection with the application or effect of civil service laws, rules, regulations, or OPM guidelines in particular situations.

8. Equal Employment Opportunity Commission (EEOC): To the EEOC in connection with investigations of alleged or possible discriminatory practices, examination of Federal affirmative employment programs, or other functions of the Commission as authorized by law.

9. Federal Labor Relations Authority (FLRA): To the FLRA in connection with the investigation and resolution of allegations of unfair labor practices, the resolution of exceptions to arbitration awards when a question of material fact is raised, matters before the Federal Service Impasses Panel, and the investigation of representation petitions and the conduct or supervision of representation elections.

10. Merit Systems Protection Board (MSPB): To the MSPB in connection with appeals, special studies of the civil service and other merit systems, review of rules and regulations, investigation of alleged or possible prohibited personnel practices, and such other functions promulgated in 5 U.S.C. 1205 and 1206, or as authorized by law.

11. National Archives and Records Administration (NARA): To NARA in records management inspections conducted under 44 U.S.C. 2904 and 2906, or other functions authorized by laws and policies governing NARA operations and VA records management responsibilities.

12. Federal, State, Local Agencies, Hiring, Retention, Contract, Security Clearance, Grant, or Permit: To a Federal, state, or local agency maintaining civil or criminal violation records, or other pertinent information such as prior employment history, prior

Federal employment background investigations, and/or personal or educational background in order for the VA to obtain information relevant to the hiring, transfer or retention of an employee, the letting of a contract, the granting of a security clearance, or the issuance of a grant or other benefit. The names and home addresses of Veterans and their dependents may be disclosed to a Federal agency in order to respond to the VA inquiry.

13. State or Local Agencies, for Employment: To a state or local agency, upon official request, to the extent that it is relevant and necessary to that agency's decision on: the hiring, retention or transfer of an employee; the issuance of a security clearance; the letting of a contract; or the issuance or continuance of a license, grant or other benefit by that agency including eligibility for unemployment compensation; provided, that if the information pertains to a Veteran, the name and address of the Veteran will not be disclosed unless the name and address are provided first by the requesting state or local agency.

14. Nonprofit Organizations: To any nonprofit organization if the release is directly connected with the conduct of programs and the utilization of benefits under title 38 U.S.C. Disclosures may be in the form of a computerized list; releases may include the name, address, entitlement code (e.g., compensation or pension), period(s) of service, sex, and date(s) of discharge may be disclosed

15. Federal Agencies, Title 38 Benefits: To a Federal agency in order for VA to obtain information relevant to the issuance of a benefit under title 38 U.S.C.

16. Consumer Reporting Agencies: To a consumer reporting agency for the purpose of locating the individual, obtaining a consumer report to determine the ability of the individual to repay an indebtedness to the United States, or assisting in the collection of such indebtedness, provided that the provisions of 38 U.S.C. 5701(g)(2) and (4) have been met, provided that the disclosure is limited to information that is reasonably necessary to identify such individual or concerning that individual's indebtedness to the United States by virtue of the person's participation in a benefits program administered by the Department.

17. Any information in this system, including available identifying information regarding the debtor, such as name of debtor, last known address of debtor, VA insurance number, VA loan number, VA claim number, place of birth, date of birth of debtor, name and address of debtor's employer or firm and dates of employment may be disclosed, under this routine use, except to consumer reporting agencies, to a third party in order to obtain current name, address, locator, and credit report in connection with any proceeding for the collection of an amount owed to the United States by virtue of a person's participation in any VA benefit program when in the judgment of the Secretary such disclosure is deemed necessary and proper. This purpose is consistent with the Federal Claims Collection Act of 1966 (Pub. L. 89-508, 31 U.S.C. 951-953, and 4 CFR parts 101-105 and 38 U.S.C. 5701(b)(6)).

18. Any information in this system, including the nature and amount of a financial obligation, may be disclosed to a debtor's employing agency or commanding officer so that the debtor-employee may be counseled by his or her Federal employer or commanding officer and to assist in the collection of unpaid financial obligations owed VA.

19. Payment information may be disclosed to the Department of the Treasury, in accordance with its official request, to permit delivery of benefit payments to Veterans or other beneficiaries.

20. Medical information may be disclosed in response to a request from the superintendent of a state hospital for psychotic patients, a commissioner or head of a state department of mental hygiene, or a head of a state, county or city health department or any fee basis physician or sharing institution in direct connection with authorized treatment for a Veteran, provided the name of the individual to whom the record pertains is given and the information will be treated as confidential, as is customary in civilian professional medical practice.

21. The name, address, VA file number, effective date of compensation or pension, current and historical benefit pay amounts for compensation or pension, service information, date of birth, competency payment status, incarceration status, and social security number of Veterans and their surviving spouses may be disclosed to the following agencies upon their official request: DoD; Defense Manpower Data Center; Marine Corps; Department of Homeland Security; Coast Guard; Public Health Service; National Oceanic and Atmospheric Administration and Commissioned Officer Corps in order for these departments and agencies and VA to reconcile the amount and/or waiver of service, department, and retired pay. These records may also be disclosed as a part of an ongoing computer-matching program to accomplish these purposes. This purpose is consistent with 10 U.S.C. 12316, 38 U.S.C. 5304, and 38 U.S.C. 5701.

22. The amount of pension, compensation, dependency and indemnity compensation, educational assistance allowance, retirement pay, and subsistence allowance of any individual identified to VA may be disclosed to any person who applies for such information as authorized by 38 U.S.C. 5701(c)(1).

23. Identifying, personal, payment, and medical information may be disclosed to a Federal, state, or local government agency at the request of a Veteran in order to assist the Veteran and ensure that all of the title 38 U.S.C. or other benefits to which the Veteran is entitled are received. This information may also be disclosed upon the request from a Federal agency, or to a state or local agency, provided the name and address of the Veteran is given beforehand by the requesting agency, in order to assist the Veteran in obtaining a non-title 38 U.S.C. benefit to which the Veteran is entitled. These records may also be disclosed as part of an ongoing computer-matching program to accomplish this purpose.

24. Any information in this system, which directly affects payment or potential payment of benefits to contesting claimants, including parties claiming an apportioned share of benefits, may be coequally disclosed to each affected claimant upon request from that claimant in conjunction with the claim for benefits sought or received.

25. Any information in this system, such as identifying information, nature of a claim, amount of benefit payments, percentage of disability, income, and medical expense information maintained by VA which is used to determine the amount payable to recipients of VA income-dependent benefits and personal information, may be disclosed to the SSA, upon its official request, in order for that agency to determine eligibility regarding amounts of social security benefits, or to verify other information with respect thereto. These records may also be disclosed as part of an ongoing computer-matching program to accomplish this purpose.

26. VA may disclose an individual's identifying information to an educational institution, training establishment, or other entity which administers programs approved for VA educational assistance in order to assist the individual in completing claims forms, to obtain information necessary to adjudicate the individual's claim, or to monitor the progress of the individual who is pursuing or intends to pursue training at the request of the appropriate institution, training establishment, or other entity administrating approved VA educational programs or at the request of the Veteran.

27. VA may disclose information from this system, except the names and home addresses of Veterans and their dependents (unless name and address is furnished by the requester), for research purposes determined to be necessary and proper to epidemiological and other research facilities approved by the Under Secretary for Health.

28. Federal Agencies, for Research: To a Federal agency for the purpose of conducting research and data analysis to perform a statutory purpose of that Federal agency upon the written request of that agency.

29. Claims Representatives, for Title 38 Benefits: To accredited service organizations, VA-approved claim agents, and attorneys acting under a declaration of representation, upon request, so that these individuals can aid claimants in the preparation, presentation, and prosecution of claims under the laws administered by VA, provided that the disclosure is limited to information relevant to a claim, such as the name, address, the basis and nature of a claim, amount of benefit payment information, medical information, and military service and active duty separation information.

30. Identifying and payment information may be disclosed, upon the request of a Federal agency, to a state or local government agency, to determine a beneficiary's eligibility under programs provided for under Federal legislation and for which the requesting Federal agency has responsibility. These records may also be disclosed as a part of an ongoing computer-matching program to accomplish these purposes. This purpose is consistent with 38 U.S.C. 5701.

31. Guardians, Courts, for Incompetent Veterans: To a court, magistrate, or administrative tribunal in matters of guardianship, inquests, and commitments; to private attorneys representing Veterans rated incompetent in conjunction with issuance of Certificates of Incompetency; or to probation and parole officers in connection with court-required duties.

32. Guardians Ad Litem, for Representation: To a fiduciary or guardian ad litem in relation to their representation of a claimant in any legal proceeding as relevant and necessary to fulfill the duties of the fiduciary or guardian ad litem.

33. Federal Agencies, Courts, Litigants, for Litigation or Administrative Proceedings: To another Federal agency, court, or party engaged in or in anticipation of litigation before a court or in an administrative proceeding conducted by a Federal agency, when the Government is a party to the judicial or administrative proceeding.

34. Any information in this system including the name, social security number, date of birth, delimiting date, and remaining entitlement of VA educational benefits, may be disclosed to the Department of Education (ED) upon its official request, or contractor thereof, for specific use by the ED to validate information regarding entitlement to VA benefits that is submitted by applicants who request educational assistance grants from the ED. The ED or contractor thereof will not use such information for any other purpose. These records may also be disclosed as part of an ongoing computer-matching program to accomplish this purpose.

35. VA may, at the request of the individual, disclose identifying information of an individual who is pursuing or intends to pursue training at an educational institution, training establishment, or other entity which administers programs approved for VA educational assistance in order for the VA to obtain sufficient information necessary to pay that individual or the educational or training establishment the correct monetary amounts in an expeditious manner. However, information will not be provided under this routine use to an educational institution, training establishment, or other entity when the request is clearly an attempt by that establishment to seek assistance in collection attempts against the individual.

36. Identifying information and information regarding the induction, reentrance, and dismissal of a disabled Veteran from a Veteran readiness program may be disclosed at the request of the Veteran to a VA-approved Veteran readiness training establishment to ensure that the trainee receives the maximum benefit from training.

37. Identifying information and information regarding the extent and nature of a Veteran's disabilities with respect to any limitations to be imposed on the Veteran's vocational programs may be disclosed at the request of the Veteran to a VA-approved Veteran readiness training establishment to ensure that the trainee receives the maximum benefit from training.

38. Information regarding the type and amount of training/education received, and the name and address of a Veteran, may be disclosed at the request of a Veteran to local and State agencies and to prospective employers in order to assist the Veteran in obtaining employment or further training.

39. The name, claims file number, and any other information relating to a Veteran's or beneficiary's incarceration in a penal institution and information regarding a dependent's right to a special apportionment of the incarcerated individual's VA benefit payment may be disclosed to those dependents who may be eligible for entitlement to such apportionment in accordance with 38 U.S.C. 5313 and 5307.

40. The name, claims file number, and any other information relating to an individual who may be incarcerated in a penal institution may, pursuant to an arrangement, be disclosed to penal institutions or to correctional authorities in order to verify information concerning the individual's incarceration status. The disclosure of this information is necessary to determine that individual's continuing eligibility as authorized under 38 U.S.C. 5313, 5307. These records may also be disclosed as part of an ongoing computer-matching program to accomplish this purpose.

41. Identifying information, except for the name and address of a Veteran, may be disclosed to a state agency for the purpose of conducting a computer match to determine if income and employment data are being properly reported to VA and to detect the unwarranted payment of benefits under title 38 U.S.C.

42. Identifying, disability, and award (type, amount and reasons for award) information may be released to the Department of Labor (DOL) in order for the DOL to conduct a computer matching program against the Office of Workers' Compensation Programs Federal Employees Compensation File, DOL/ESA-13, published in 46 FR 12357 on February 13, 1981. This match will permit the DOL to verify a person's eligibility for DOL payments as well as to detect situations where recipients may be erroneously receiving concurrent multiple payments from the DOL and VA, to identify areas where legislative and regulatory amendments directed toward preventing overpayments are needed, and to collect debts owed to the United States Government. This matching program is performed pursuant to the DOL Inspector General's authority under Public Law 95-452, section 4(a) to detect and prevent fraud and abuse. This disclosure is consistent with 38 U.S.C. 5701(b)(3).

43. Treasury, to Report Waived Debt as Income: To the Department of the Treasury as a report of income under 26 U.S.C. 61(a)(12), provided that the disclosure is limited to information concerning an individual's indebtedness that is waived under 38 U.S.C. 3102, compromised under 4 CFR part 103, otherwise forgiven, or for which the applicable statute of limitations for enforcing collection has expired.

44. Federal, State, County, or Municipal Agencies, for Computer Matches: To a Federal, state, county, or municipal agency for the purpose of conducting computer matches to obtain information to validate the entitlement of an individual, who is receiving or has received Veterans' benefits under title 10 or title 38 U.S.C.

45. Identifying information, including the initials and abbreviated surname, the social security number, the date of birth, and coding indicating the category of the individual's records, the degree of disability, the benefit program under which benefits are being paid and the computed amount of VA benefits for a calendar year may be released to the Department of the Treasury, and Internal Revenue Service (IRS), in order for IRS to conduct a computer matching program against IRS Forms 1040, Schedule R, Credit for the Elderly and the Permanently and Totally Disabled. This match will permit IRS to determine the eligibility for and the proper amount of Elderly and Disabled Credits claimed on IRS Form 1040, Schedule R. This matching program is performed pursuant to the provisions of Internal Revenue Code Section 7602.

46. Identifying information, such as name, social security number, VA claim number, date and place of birth, etc., in this system may be disclosed to an employer or school having information relevant to a claim in order to obtain information from the employer or school to the extent necessary to determine that eligibility for VA compensation or pension benefits continues to exist or to verify that there has been an overpayment of VA compensation or pension benefits. Any information in this system also may be disclosed to any of the above-entitled individuals or entities as part of ongoing computer matching programs to accomplish these purposes.

47. Treasury, for Withholding: To the Department of the Treasury for the collection of title 38 benefit overpayments, overdue indebtedness, or costs of services provided to an individual not entitled to such services, by the withholding of all or a portion of the person's Federal income tax refund, provided that the disclosure is limited to information concerning an individual's indebtedness by virtue of a person's participation in a benefits program administered by VA.

48. Veterans' addresses which are contained in this system of records may be disclosed to the Defense Manpower Data Center, upon its official request, for military recruiting command needs, DoD civilian personnel offices' mobilization studies and mobilization information, debt collection, and Individual Ready Reserve Units' locator services.

49. The name, address, VA file number, date of birth, date of death, social security number, and service information may be disclosed to the Defense Manpower Data Center. DoD will use this information to identify retired Veterans and dependent members of their families who have entitlement to DoD benefits but who are not identified in the Defense Enrollment Eligibility Reporting System program and to assist in determining eligibility for Civilian Health and Medical Program of the Uniformed Services benefits. This purpose is consistent with 38 U.S.C. 5701. These records may also be disclosed as part of an ongoing computer-matching program to accomplish this purpose.

50. The name, address, VA file number, social security number, sex of Veteran, date(s) of birth of the Veteran and dependents, current benefit pay amounts for compensation or pension, pay status, check amount, aid and attendance status, Veteran and spouse annual income amounts, and type and combined degree of disability will be disclosed to the Department of Health and Human Services. The SSA will use the data in the administration of the Supplemental Security Income payment system as prescribed by Public Law 92-603. These records may also be disclosed as part of an ongoing computer-matching program to accomplish these purposes. This purpose is consistent with 38 U.S.C. 5701.

51. The names and current addresses of VA beneficiaries who are identified by finance centers of individual uniformed services of DoD and the Department of Homeland Security (Coast Guard) as responsible for the payment of Survivor Benefit Plan (SBP) premium payments to be released from this system of records to them upon their official written request for such information for their use in attempting to recover amounts owed for SBP premium payments.

52. This routine use authorizes VA to compile lists of the social security numbers and loan account numbers of all persons with VA-guaranteed and portfolio loans in default, or VA loans on which there has been a foreclosure and the Department paid a claim, and provide these records to HUD for inclusion in its CAIVRS. Information included in this system may be disclosed to all participating agencies and lenders who participate in the agencies' programs to enable them to verify information provided by new loan applicants and evaluate the creditworthiness of applicants. These records may also be disclosed as part of an ongoing computer-matching program to accomplish these purposes.

53. SSA, for Social Security Number Validation: VA may disclose names and social security numbers of Veterans, spouses of Veterans, and the beneficiaries of Veterans, and other identifying information as is reasonably necessary may be disclosed to SSA, Department of Health and Human Services, for the purpose of conducting computer matches to obtain information to validate the social security numbers maintained in VA records. This information may also be disclosed as part of a computer matching agreement to accomplish this purpose.

54. Any information contained in the files of Veterans whose claims were referred to VA Central Office for an advisory opinion concerning their claims that their disabilities were incurred secondary to occupational radiation exposure may be disclosed to the Department of the Navy (DON). The information to be furnished to DON would include the medical opinions, dose estimates, advisory opinions, and rating decisions including Veterans' names, addresses, VA claim numbers, social security numbers, and medical information. The requested information may be disclosed to DON upon receipt of its official written request for such information for its use in the review and assessment of its occupational radiation exposure controls and training.

55. A Veteran's claims file number and folder location may be disclosed to a court of proper jurisdiction that has issued a garnishment order for that Veteran under 42 U.S.C. 659 through 660.

56. An individual's identifying and payment information may be disclosed to the educational institution, training establishment, or other entity the individual attends (or attended) if that individual received educational assistance from VA based on training at that educational institution, training establishment, or entity. VA will disclose this information to assist the educational institution, training establishment, or other entity in verifying the individual's receipt of VA educational assistance and to assist the individual in applying for additional financial aid (e.g., student loans).

57. The name and address of a prospective, present, or former accredited representative, claims agent or attorney, and any information concerning such individual which is relevant to a refusal to grant access privileges to automated Veterans' claims records, or a potential or past suspension or termination of such access privileges may be disclosed to the entity employing the individual to represent Veterans on claims for Veterans benefits.

58. The name and address of a former accredited representative, claim agent or attorney, and any information concerning such individual, except a Veteran's name and home address, which is relevant to a revocation of such access privileges may be disclosed to an appropriate governmental licensing organization where VA determines that the individual's conduct that resulted in revocation merits reporting.

59. A record from this system (other than the address of the beneficiary) may be disclosed to a former representative of a beneficiary to the extent necessary to develop and adjudicate a claim for payment of attorney fees to such representative from past-due benefits under 38 U.S.C. 5904(d) and Public Law 109-461 or to review a fee agreement between such representative and the beneficiary for reasonableness under 38 U.S.C. 5904(c)(2) and Public Law 109-461.

60. Disclosure of tax returns and return information received from the IRS may be made only as provided by 26 U.S.C. 6103 (an IRS confidentiality statute) also covering any IRS tax return information provided as part of an ongoing computer matching program.

61. Where VA determines that there is good cause to question the legality or ethical propriety of the conduct of a person or organization representing a person in a matter before VA, a record from this system may be disclosed, on VA's initiative, to any or all of the following: (1) applicable civil or criminal law enforcement authorities and (2) a person or entity responsible for the licensing, supervision, or professional discipline of the person or organization acting as a representative.

62. The name and address of a beneficiary, and other information as is reasonably necessary to identify such a beneficiary, who has been adjudicated as incompetent under 38 CFR 3.353, may be provided to the Attorney General of the United States or his/her designee, for use by the DOJ in the National Instant Criminal Background Check System mandated by the Brady Handgun Violence Prevention Act, Public Law 103-159.

63. Disclosure to other Federal agencies may be made to assist such agencies in preventing and detecting possible fraud, waste, overpayment, or abuse by individuals in their operations and programs as well as identifying areas where legislative and regulatory amendments directed toward preventing overpayments. These records may also be disclosed as part of an ongoing computer-matching program to accomplish this purpose.

64. VA may disclose information to other Federal Agencies including, but not limited to, identifying information, payment information, and vocational objectives about a Veteran or Service member who is receiving or has received benefits under the Veteran Readiness program to be used in data analysis and development of performance measures.

65. Any information contained in this system may be disclosed by VA, as deemed necessary, to DoD for use for determinations required by DoD. VA will routinely use the information to conduct medical evaluations needed to produce VA disability ratings and to promulgate subsequent claims for benefits under title 38 U.S.C.

66. Information in this system (excluding date of birth, social security number, and address) relating to the use of transferred educational assistance benefits may be coequally disclosed to the transferor, (e.g., the individual from whom eligibility was derived) and to each transferee (e.g., the individual receiving the transferred benefit). The information disclosed is limited to the two parties in each transferor-transferee relationship, as the transferor may have multiple transferred relationships.

67. Any information in this system of records may be disclosed, in the course of presenting evidence in or to a court, magistrate, administrative tribunal, or grand jury, including disclosures to opposing counsel in the course of such proceedings or in settlement negotiations.

68. Phone Operators, for the Hearing-Impaired: VA may disclose information from this system of records to telephone company operators acting in a capacity to facilitate phone calls to or for hearing-impaired individuals, such as Veterans or authorized agents, using telephone devices for the hearing-impaired, including Telecommunications Devices for the Deaf or Text Telephones.

69. Any information in this system, including name, address, social security number, VA file number, medical records, financial records, and field examination reports of a VA beneficiary, and the name, address, and information regarding the activities of a VA-appointed fiduciary or beneficiary may be disclosed at the request of a VA beneficiary or fiduciary to a Federal, state, or local agency in order for VA to obtain information relevant to a VA decision concerning the payment and usage of funds payable by VA on behalf of a beneficiary, or to enable VA to assist a beneficiary or VA-appointed fiduciary in obtaining the maximum amount of benefits for a VA beneficiary from a Federal, state, or local agency.

70. VA may disclose Veteran identifying information, to include only the identifiers of name, address, and social security number, to the Department of Health and Human Services, Administration of Children and Families' Office of Child Support and Enforcement, to be used to obtain new hire information from the National Directory of New Hires for the purpose of tracking the employment of Veterans pursuant to Section 453A(h) of the Social Security Act (42 U.S.C. 653a(h)).

POLICIES AND PRACTICES FOR STORAGE OF RECORDS:

Compensation and Pension-related claims, records (or information contained in records) are 100% digitized and stored in the VBMS electronic folder (VBMS eFolder). All paper documents VA receives pursuant to a Compensation or Pension claim are converted to a digital image via VA's electronic imaging process and uploaded into the VBMS eFolder.

VR&E claims are maintained on paper, electronic folders, and on automated storage media (e.g., microfilm, microfiche, magnetic tape, and disks). Texts and emails from the Veterans pursuant to a VR&E claim are stored in the Corporate Database as a Corporate WINRS Case Note, which becomes the official record. Any texts and emails stored in the cloud/contractor server are considered duplicate copies.

POLICIES AND PRACTICES FOR RETRIEVAL OF RECORDS:

Records, whether paper or electronic, are retrieved by name of the individual and VA file number. Automated records are retrieved by name, VA file number, payee name, and type of benefit. Employee productivity records are retrieved by employee BDN identification number. Records in CAIVRS may only be retrieved by social security number.

POLICIES AND PRACTICES FOR RETENTION AND DISPOSAL OF RECORDS:

Compensation and Pension claims records are retained indefinitely. Claim file folders for Compensation and Pension claims are electronically imaged and uploaded into the VBMS eFolder. Once a file is electronically imaged and established by VA as the official record, its paper contents (with the exception of documents that are on hold due to pending litigation, and service treatment records and other documents that are the property of DoD) are reclassified as duplicate—non record keeping—copies of the official record, and will be destroyed in accordance with the schedule approved by the Archivist of the United States, Records Control Schedule (RCS) VB-1, Part 1, Field, Section XIII, Item 13-052.100. Decisions to destroy VR&E paper counseling records are to be made in accordance with the schedule approved by the Archivist of the United States RCS VB-1, Part I, Field in Section VII.

VR&E paper counseling records utilized as temporary working information are retained until a claim for educational benefits is decided. Once records are digitized and verified as wholly available in VBMS, destruction of paper copies shall occur in accordance with VBA RCS VB-1, Part I, Field, dated January 31, 2014. Education file folders in paper format shall be destroyed in accordance with VBA Records Control Schedule VB-1, Part I, dated January 31, 2014

Education file folders in paper are retained at the servicing Regional Processing Office. Education paper folders may be destroyed in accordance with the schedule approved by the Archivist of the United States, RCS VB-1, Part 1, Field, Section VII.

Employee productivity records are maintained for four years or longer if required for business use in accordance with the schedule approved by the Archivist of the United States, RCS VB-1, Part 1, Field, Item 05-070.000.

File information for CAIVRS is provided to HUD by VA on magnetic tape. After information from the tapes has been read into the computer the tapes are returned to VA for updating. HUD does not keep separate copies of the tapes.

ADMINISTRATIVE, TECHNICAL, AND PHYSICAL SAFEGUARDS:

1. Physical Security:

(a) Access to working spaces and claims folder file storage areas in VA regional offices and centers is restricted to VA employees on a need-to-know basis. Generally, file areas are locked after normal duty hours and the offices and centers are protected from outside access by the Federal Protective Service or other security personnel. Employee claims file records and claims file records of public figures are stored in separate locked files. Strict control measures are enforced to ensure that access to and disclosure from these claims file records are limited to a need-to-know basis. Duplicate paper copies after imaging are stored in NARA-compliant facilities, pending destruction.

(b) Access to BDN, Legacy Content Manager (LCM), Corporate WINRS (Waco, Texas, Indianapolis, Indiana, Newark, New Jersey, Roanoke, Virginia, and Seattle, Washington), VETSNET, and VBMS data telecommunication networks are by authorization controlled by the site security officer who is responsible for authorizing access to the BDN, LCM, VBMS, and VETSNET by a claimant's representative or attorney approved for access in accordance with VA regulations. The site security officer is responsible for ensuring that the hardware, software, and security practices of a representative or attorney satisfy VA security requirements before granting access. The security requirements applicable to the access of automated claims files by VA employees also apply to the access of automated claims files by claimants' representatives or attorneys. The security officer is assigned responsibility for privacy-security measures, especially for review of violation logs, information logs, and control of password distribution, including password distribution for claimants' representatives.

(c) Access to data processing centers is generally restricted to center employees, custodial personnel, Federal Protective Service, and other security personnel. Access to computer rooms is restricted to authorized operational personnel through electronic locking devices. All other persons provided access to computer rooms are escorted.

(d) Employee production records are identified by the confidential BDN and VETSNET employee identification number and are protected by management/supervisory personnel from unauthorized disclosure in the same manner as other confidential records maintained by supervisors.

2. BDN, LCM, VETSNET, e-VA, and VBMS System Security:

(a) Usage of the BDN, LCM, Corporate WINRS, VETSNET, e-VA, and VBMS systems is protected by the usage of “login” identification passwords and authorized function passwords. The passwords are changed periodically. These same protections apply to remote access users.

(b) At the data processing centers, identification of magnetic tapes and disks containing data is rigidly enforced using labeling techniques. Automated storage media, which are not in use, are stored in tape libraries, which are secured in locked rooms. Access to programs is controlled at three levels: programming, auditing and operations. Access to the data processing centers where HUD maintains CAIVRS is generally restricted to center employees and authorized subcontractors. Access to computer rooms is restricted to center employees and authorized operational personnel through electronic locking devices. All other persons granted access to computer rooms are escorted. Files in CAIVRS use social security numbers as identifiers. Access to information files is restricted to authorized employees of participating agencies and authorized employees of lenders who participate in the agencies' programs. Access is controlled by agency distribution of passwords. Information in the system may be accessed by use of a touch-tone telephone by authorized agency and lender employees on a “need-to-know” basis.

3. e-VA System Security:

A unique SSL certificate has been generated for this connection that provides authentication for the e-VA applications, which enables an encrypted connection. Short Message Service (SMS) text messages are processed using a secure SMS gateway hosted by Twilio. The client's first and last name (the only personally identifiable information in the text message) are encrypted when the information is passed back and forth. Emails are processed by Amazon Web Services Simple Email Service using Transport Layer Security protocol, which is a cryptographic protocol designed to provide communications security over a computer network. All emails to participants are sent from a single email address (eva@eva.va.gov).

RECORD ACCESS PROCEDURES:

Individuals seeking information on the existence and content of records in this system pertaining to them should contact the system manager in writing as indicated above. A request for access to records must contain the requester's full name, address, telephone number, be signed by the requester, and describe the records sought in sufficient detail to enable VA personnel to locate them with a reasonable amount of effort.

Note: Remote on-line access is also made available at authorized remote sites, for representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA. Information relating to receivable accounts owed to VA.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURES:

Individuals who wish to be notified if a record in this system of records pertains to them should submit the request following the procedures described in “Record Access Procedures,” above.

EXEMPTIONS PROMULGATED FOR THE SYSTEM:

None.

HISTORY:

Originally published on March 3, 1976; most recent amendments can be found at: 74 FR 29275 (June 19, 2009); 75 FR 22187 (April 27, 2010); 77 FR 42594 (July 19, 2012); 84 FR 4138, (February 14, 2019); and 86 FR 61858 (November 8, 2021).

[FR Doc. 2025-17709 Filed 9-12-25; 8:45 am]

BILLING CODE 8320-01-P